DEPARTMENT OF DEFENSE

Department of the Navy

Notice of Intent to Grant Exclusive Patent License: Lockmasters Incorporated

AGENCY: Department of the Navy, DoD.

ACTION: Notice.

SUMMARY: The Department of the Navy herby gives notice of its intent to grant to Lockmasters Incorporated a revocable, nonassignable, exclusive license for three years and a nonexclusive license thereafter to practice in the field of use of security locking devices in the United States and its territories, the Government-owned invention described in U.S. Patent Application 14/826014 entitled “Spindle Locator Tool”, filed on Aug 13, 2015.

DATES: Anyone wishing to object to the grant of this license must file written objections along with supporting evidence, if any, not later than [INSERT DATE 15 DAYS AFTER PUBLICATION FIRST APPEARS IN Federal Register].

ADDRESSES: Written objections should be directed to NAVFAC Engineering & Expeditionary Warfare Center, 1100 23rd Avenue, Port Hueneme, CA 93043-4370.

FOR FURTHER INFORMATION CONTACT: Victor Cai, Office of Research and Technology Applications, NAVFAC EXWC, 1100 23rd Avenue, Port Hueneme, CA 93043-4370, telephone 805-982-3009, email: victor.cai@navy.mil.

SUPPLEMENTARY INFORMATION: The Spindle Locator Tool enables identification of proper and improper placement of a spindle in a locking mechanism. Specifically, it will be used for the X-10 electromechanical lock which has experienced a spindle and cam interface issue that can result in lockouts requiring neutralization.

Authority: (35 U.S.C. 207, 37 CFR part 404)

Dated: November 24, 2015.
N.A. Hagerty-Ford,
Commander, Judge Advocate General's Corps, U.S. Navy, Federal Register Liaison Officer.

[FR Doc. 2015-30491 Filed 11-30-15; 8:45 am]

BILLING CODE 3810-FF-P